GENERAL SERVICES ADMINISTRATION

[OMB Control No. 3090-0285; Docket 2012-0001; Sequence 17]

Agency Information Collection Activities; Submission for OMB Review; IT Dashboard Feedback Mechanism

AGENCY: Office of Innovative Technology Services and Solutions, Office of Citizen Services and Innovative Technologies, U.S. General Services Administration (GSA).

ACTION: Notice of request for public comments regarding an existing OMB clearance.

SUMMARY: Under the provisions of the Paperwork Reduction Act, the General Services Administration will be submitting to the Office of Management and Budget (OMB) a request to review and approve a previously approved information collection requirement regarding IT Dashboard Feedback Mechanism. A notice was published in the Federal Register at 78 FR 13057, on February 26, 2013. No comments were received.

DATES: Submit comments on or before July 17, 2013.

ADDRESSES: Submit comments identified by Information Collection 3090-0285, IT Dashboard Feedback Mechanism, by any of the following methods:

• Regulations.gov: http://www.regulations.gov. Submit comments via the Federal eRulemaking portal by searching the OMB control number. Select the link “Submit a Comment” that corresponds with “Information Collection 3090-0285, IT Dashboard Feedback Mechanism”. Follow the instructions provided at the “Submit a Comment” screen. Please include your name, company name (if any), and “Information Collection 3090-0285, IT Dashboard Feedback Mechanism” on your attached document.

• Fax: 202-501-4067.

• Mail: General Services Administration, Regulatory Secretariat (MVCB), 1800 F Street NW., Washington, DC 20405-0001. ATTN: Hada Flowers/IC 3090-0285, IT Dashboard Feedback Mechanism.

Instructions: Please submit comments only and cite Information Collection 3090-0285, IT Dashboard Feedback Mechanism, in all correspondence related to this collection. Submit comments regarding this burden estimate or any other aspect of this collection of information, including suggestions for reducing this burden to: FAR Desk Officer, OMB, Room 10102, NEOB, Washington, DC 20503. All comments received will be posted without change to http://www.regulations.gov, including any personal and/or business confidential information provided.

FOR FURTHER INFORMATION CONTACT: Lalit Bajaj, Program Manager, Office of Innovative Technology Services and Solutions, Office of Citizen Services and Innovative Technologies, 1275 First Street NE., Washington, DC 20002, telephone number 202-208-7887, or email at Lalit.Bajaj@gsa.gov.

SUPPLEMENTARY INFORMATION:

A. Purpose

The IT Dashboard Web site (itdashboard.gov) provides agencies and the public access to view details of Federal information technology investments online and to track their progress over time. The IT Dashboard displays IT budget data received from agencies through their Exhibit 53 and 300 submissions, including general information of over 7,000 federal IT investments and nearly 800 investments classified as major by the agencies.

Public comments are particularly invited on: whether this collection of information is necessary and whether it will have practical utility; whether our estimate of the public burden of this collection of information is accurate, and based on valid assumptions and methodology; and ways to enhance the quality, utility, and clarity of the information to be collected.

B. Annual Reporting Burden

Number of Respondents: 1000.

Responses per Respondent: 1.

Total Annual Responses: 1000.

Average Hours per Response: 0.02.

Total Burden Hours: 20.

Obtaining Copies of Proposals: Requesters may obtain a copy of the information collection documents from the General Services Administration, Regulatory Secretariat (MVCB), 1800 F Street NW., Washington, DC 20405-0001, telephone (202) 501-4755. Please cite OMB Control Number 3090-0285, IT Dashboard Feedback Mechanism, in all correspondence.

Dated: June 5, 2013.
Casey Coleman,
Chief Information Officer.

[FR Doc. 2013-14287 Filed 6-14-13; 8:45 am]

BILLING CODE 6820-34-P